FEDERAL RETIREMENT THRIFT INVESTMENT BOARD

Notice of Employee Thrift Advisory Council Meeting

DATES: October 19, 2021 at 10 a.m.

ADDRESSES: Telephonic. Dial-in (listen only) information: Number: 1-415-527-5035, Code: 2764 577 0210; or via web:

https://tspmeet.webex.com/tspmeet/onstage/g.php?MTID=e93b203932e7c4905279e93a87109ab84.

FOR FURTHER INFORMATION CONTACT: Kimberly Weaver, Director, Office of External Affairs, (202) 942-1640.

SUPPLEMENTARY INFORMATION:

Meeting Agenda

1. Approval of the May 26, 2021 Joint Board/ETAC Meeting Minutes

2. Thrift Savings Fund Statistics

3. Legislative Update

4. FY2022 FRTIB Budget

5. Participant Satisfaction Report

6. Converge Update

7. New Business

Authority: 5 U.S.C. 552b(e)(1).

Dated: September 22, 2021.
Dharmesh Vashee,
General Counsel, Federal Retirement Thrift Investment Board.

[FR Doc. 2021-20976 Filed 9-27-21; 8:45 am]

BILLING CODE P